DEPARTMENT OF TRANSPORTATION

Federal Highway Administration

23 CFR Part 490

[Docket No. FHWA-2025-0001]

RIN 2125-AG16

National Performance Management Measures; Assessing Performance of the National Highway System, Greenhouse Gas Emissions Measure; Correction

AGENCY: Federal Highway Administration (FHWA), U.S. Department of Transportation (DOT).

ACTION: Final rule; correction.

SUMMARY: The FHWA is correcting a clerical error in a final rule that appeared in the Federal Register (FR) on April 18, 2025. The final rule repealed a requirement that State departments of transportation (State DOT) and metropolitan planning organizations (MPO) establish declining carbon dioxide (CO2) targets for the greenhouse gas (GHG) measure and report on progress toward the achievement of the target.

DATES: This final rule is effective May 19, 2025.

FOR FURTHER INFORMATION CONTACT: Mr. Gary A. Jensen, Office of Natural Environment, (202) 366-2048, or via email at Gary.Jensen@dot.gov, or Mr. Lev Gabrilovich, Office of the Chief Counsel, (202) 366-3813, or via email at Lev.Gabrilovich@dot.gov. Office hours are from 8 a.m. to 4:30 p.m. Eastern time (ET), Monday through Friday, except Federal holidays.

SUPPLEMENTARY INFORMATION: On April 18, 2025, FHWA published a final rule repealing the requirement that State DOTs and MPOs assess the performance of the National Highway System (NHS) under the National Highway Performance Program by establishing declining CO2 emissions targets and measuring and reporting on the percent change in tailpipe CO2 emissions on the NHS from the calendar year 2022 (90 FR 16463). In the amendatory instructions effectuating the removal of the rule from the Code of Federal Regulations (CFR), FHWA included an erroneous citation to a section of the CFR unrelated to the GHG measure being repealed. This document corrects that error.

Correction

In FR Doc. 2025-06664 appearing on page 16463 in the Federal Register of April 18, 2025, the following correction is made:

§ 490.509 [Corrected]

1. On page 16466, in the second column, in part 490, in amendment 9, the instruction “In § 450.509 remove paragraphs (f) through (h).” is corrected to read “In § 490.509, remove paragraphs (f) through (h).”

§ 490.515 [Corrected]

2. On page 16466, in the second column, in part 490, in amendment 12, the header is corrected to read “§ 490.515 [Removed and Reserved]”.

Issued under authority delegated in 49 CFR 1.85.
Gloria M. Shepherd,
Executive Director, Federal Highway Administration.

[FR Doc. 2025-08352 Filed 5-12-25; 8:45 am]

BILLING CODE 4910-22-P